DEPARTMENT OF LABOR

Employment and Training Administration

Investigations Regarding Certifications Of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 3, 2000.

Interested persons are invited to submit written comments regarding the subject matter of the investigations to the Director, Division of Trade Adjustment Assistance, at the address shown below, not later than August 3, 2000.

The petitions filed in this case are available for inspection at the Office of the Director, Division of Trade Adjustment Assistance, Employment and Training Administration, U.S. Department of Labor, 200 Constitution Avenue, NW., Washington, DC 20210.

Signed at Washington, DC, this 3rd day of July, 2000.
Grant D. Beale,
Program Manager, Division of Trade Adjustment Assistance.

Appendix
[Petitions instituted on 7/3/2000]
TA-W | Subject firm (petitioners) | Location | Date of petition | Product(s)
37,832 | Nestaway Corp. (UAW) | Cleveland, OH | 06/22/2000 | Wire Products.
37,833 | PED Oil Corp (Co.) | Midland, TX | 06/20/2000 | Oil and Gas Leasing.
37,834 | Dynegy Midstream Services (Co.) | Eunice, NM | 06/10/2000 | Process Natural Gas.
37,835 | Whitehall Leather (Co.) | Whitehall, MI | 06/20/2000 | Semi-Finished Leather.
37,836 | Shenandoah Rag Co., Inc (Wkrs) | Shenandoah, PA | 06/14/2000 | Grade Second Hand Clothing.
37,837 | American General Assurance (Wkrs) | Reading, PA | 06/08/2000 | Customer Service—Medical Claims.
37,838 | Colorado Biomedical (Wkrs) | Evergreen, CO | 06/14/2000 | Tungsten Electrodes for Medical Industry.
37,839 | Congoleum Corp. (USWA) | Trainer, PA | 06/15/2000 | Vinyl Flooring.
37,840 | La Crosse Footwear (Co.) | Clintonville, WI | 06/20/2000 | Leather Footwear.
37,841 | Braunstein, Inc. (Co.) | New York City, NY | 06/17/2000 | Gold Jewelry.
37,842 | Siemens (IUE) | Norwood, OH | 06/14/2000 | Electrical Industrial Motors.
37,843 | Shoal Creek Mine-Drummond (UMWA) | Adger, AL | 06/20/2000 | Coal Mining.
37,844 | J and L Steel (USWA) | Detroit, MI | 03/13/2000 | Stainless Products.
37,845 | Sims Deltec (Co.) | St. Paul, MN | 05/01/2000 | Gripper Needles, Medication Cassettes.
37,846 | Collins Products (Co) | Klamath Falls, OR | 06/23/2000 | Plywood.
37,847 | Reckitt Benckiser (PACE) | Rockwood, MI | 06/21/2000 | Household Products.
37,848 | Genicom Corp. (Wkrs) | Temple, TX | 06/16/2000 | Impact Printer.
37,849 | Seagate Technology, Inc (Wkrs) | Oklahoma, OK | 06/26/2000 | Computer Hard Drives.
37,850 | Motorola—Energy Systems (Wkrs) | Harvard, IL | 06/10/2000 | Batteries for Cellular Phones.
37,851 | J. Angela Dress (UNITE) | Brooklyn, NY | 06/19/2000 | Day and Evening Dresses.
37,852 | Southwest Cupid Corp. (Wkrs) | Hominy, OK | 06/15/2000 | Ladies' Undergarments.

[FR Doc. 00-18609 Filed 7-21-00; 8:45 am]

BILLING CODE 4510-30-M